DEPARTMENT OF THE INTERIOR

National Park Service

[NPS-WASO-NAGPRA-NPS0038779; PPWOCRADN0-PCU00RP14.R50000]

Notice of Inventory Completion: U.S. Army Garrison, Fort Leonard Wood, MO

AGENCY: National Park Service, Interior.

ACTION: Notice.

SUMMARY: In accordance with the Native American Graves Protection and Repatriation Act (NAGPRA), the U.S. Army Garrison, Fort Leonard Wood (Fort Leonard Wood) has completed an inventory of human remains and associated funerary objects and has determined that there is a cultural affiliation between the human remains and associated funerary objects and Indian Tribes or Native Hawaiian organizations in this notice.

DATES: Repatriation of the human remains and associated funerary objects in this notice may occur on or after November 4, 2024.

ADDRESSES: Stephanie Nutt, Archaeologist/Cultural Resources Manager, 8112 Nebraska Avenue, Building 11400, Fort Leonard Wood, MO 65473, telephone (573) 596-7607, email Stephanie.L.Nutt.civ@army.mil.

SUPPLEMENTARY INFORMATION: This notice is published as part of the National Park Service's administrative responsibilities under NAGPRA. The determinations in this notice are the sole responsibility of Fort Leonard Wood and additional information on the determinations in this notice, including the results of consultation, can be found in its inventory or related records. The National Park Service is not responsible for the determinations in this notice.

Abstract of Information Available

Human remains representing, at least, three individuals have been reasonably identified. No associated funerary objects are present. The individuals were removed from Miller Cave, site 23PU2, in Pulaski County, MO. The individuals were found by Markman and Associates, Inc. in a back dirt pile of an earlier 1922 excavation of the site. The individuals were later identified during an analysis of faunal remains. The site dates from the Early Archaic (7800-5000 BC) to the Mississippian (A.D. 950-1600).

One associated funerary object has been identified. The one associated funerary object is one faunal (deer) tooth. In 1982, human remains representing, at minimum, one adult individual and associated funerary object was removed from Wilson Cave, site 23PU152 in Pulaski County, MO. The individual and associated funerary object was removed by Environmental Consultants, Inc. during an archaeological excavation of the cave in 1982. The site dates from the Middle Archaic (5000-2500 BC) to the Mississippian (A.D. 950-1600). The individual associated with this object has been listed in a Notice of Inventory Completion published in the Federal Register on March 7, 2017 (82 FR12835-12836).

Human remains representing, at least, one individual has been identified. The one associated funerary object is one faunal tooth. The individual and associated funerary object were removed from Joy Cave, site 23PU210 in Pulaski County, MO. The individual and associated funerary object were removed by Environmental Consultants, Inc., during archaeological survey in 1982. The site dates from the Archaic (7800-700 BC) to the Mississippian (A.D. 950-1600).

Human remains representing, at least, one individual has been identified. No associated funerary objects are present. The individual was removed from Martin Cave B, site 23PU217 in Pulaski County, MO. The individual was removed by Environmental Consultants, Inc., during an archaeological survey of the cave in 1982. The site dates from the Middle Woodland (200 BC-A.D. 450) to the Late Woodland (A.D. 450-950).

Human remains representing, at least, two individuals have been identified. The two associated funerary objects are one lot of ceramics and one lot of faunal fragments. The individuals and associated funerary objects were removed from site 23PU234 in Pulaski County, MO. The individuals and associated funerary objects were removed by Cultural Resource Analysts, Inc. during an archaeological excavation at a disturbed cairn site in 1983. The site dates to the Late Woodland period (A.D. 450-950).

Human remains representing, at least, one individual has been identified. The 13 associated funerary objects are 13 faunal fragments. The individual and associated funerary objects were removed from site 23PU311 in Pulaski County, MO. The individuals and associated funerary objects were removed by Cultural Resource Analysts, Inc. during archaeological testing at a disturbed cairn site in 1983. The site dates to the Late Woodland period (A.D. 450-950).

Human remains representing, at least, two individuals have been identified. The seven associated funerary objects are one Columnella bead, one Anculosa bead, one bone awl, one lot unsorted matrix, one faunal fragment, one wood fragment, and one snail shell. The individuals and associated funerary objects were removed from site 23PU313 in Pulaski County MO. The individuals and associated funerary objects were removed by Cultural Resource Analysts, Inc., during archaeological testing of a disturbed cairn site. The site dates to the Late Woodland period (A.D. 450-950).

Human remains representing, at least, one individual has been identified. There are no associated funerary objects. The individual was removed from site 23PU321 in Pulaski County, MO. The individual was removed by Cultural Resource Analysts, Inc. during archaeological excavation in 1983. The site dates to the Late Woodland (A.D. 450-950).

Cultural Affiliation

Based on the information available and the results of consultation, cultural affiliation is clearly identified by the information available about the human remains and associated funerary objects described in this notice.

Determinations

Fort Leonard Wood has determined that:

• The human remains described in this notice represent the physical remains of 11 individuals of Native American ancestry.

• The 24 objects described in this notice are reasonably believed to have been placed intentionally with or near individual human remains at the time of death or later as part of the death rite or ceremony.

• There is a connection between the human remains and associated funerary objects described in this notice and The Osage Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after November 4, 2024. If competing requests for repatriation are received, Fort Leonard Wood must determine the most appropriate requestor prior to repatriation. Requests for joint repatriation of the human remains and associated funerary objects are considered a single request and not competing requests. Fort Leonard Wood is responsible for sending a copy of this notice to the Indian Tribes and Native Hawaiian organizations identified in this notice.

Authority: Native American Graves Protection and Repatriation Act, 25 U.S.C. 3003, and the implementing regulations, 43 CFR 10.10.

Dated: September 25, 2024.
Melanie O'Brien,
Manager, National NAGPRA Program.

[FR Doc. 2024-22894 Filed 10-3-24; 8:45 am]

BILLING CODE 4312-52-P